DEPARTMENT OF TRANSPORTATION

Maritime Administration

[Docket No. DOT-MARAD 2015 0099]

Agency Requests for Renewal of a Previously Approved Information Collection(s): Monthly Report of Ocean Shipments Moving Under Export-Import Bank Financing

AGENCY: Maritime Administration, DOT.

ACTION: Notice and request for comments.

SUMMARY: The Maritime Administration (MARAD) invites public comments about our intention to request the Office of Management and Budget (OMB) approval to renew an information collection. The collection involves documenting shipments made during the life of certain EXIM Bank financed projects. The information to be collected is necessary for MARAD to fulfill its legislative requirement to monitor the percentage of ocean freight revenues/tonnage. We are required to publish this notice in the Federal Register by the Paperwork Reduction Act of 1995, Public Law 104-13.

DATES: Written comments should be submitted by November 9, 2015.

ADDRESSES: You may submit comments [identified by Docket No. DOT-MARAD-2015-0099] through one of the following methods:

• Federal eRulemaking Portal: http://www.regulations.gov. Follow the online instructions for submitting comments.

• Fax: 1-202-493-2251.

• Mail or Hand Delivery: Docket Management Facility, U.S. Department of Transportation, 1200 New Jersey Avenue SE., West Building, Room W12-140, Washington, DC 20590, between 9 a.m. and 5 p.m., Monday through Friday, except on Federal holidays.

FOR FURTHER INFORMATION CONTACT: Kathleen DiPietropolo, 202-366-0819, Office of Cargo and Commercial Sealift, Maritime Administration, U.S. Department of Transportation, 1200 New Jersey Avenue SE., Washington, DC 20590.

SUPPLEMENTARY INFORMATION:

OMB Control Number: 2133-0013.

Title: Monthly Report of Ocean Shipments Moving Under Export-Import Bank Financing.

Form Numbers: MA-518.

Type of Review: Renewal of an information collection.

Background: The information collection will be used by MARAD to monitor compliance with the cargo preference laws by parties covered under PR 17 and 46 CFR part 381. In addition, MARAD will use the information to compile annual information on Export-Import Bank-financed shipments, and when applicable, to provide for an informal grievance procedure, in the event there is a question or complaint pertaining to cargo preference matters.

The monthly shipping reports, with substantiating documents, will provide the only basis for MARAD to exercise its legislative responsibility to monitor Export-Import Bank-financed cargoes that are transported on U.S.-flag vessels, recipient flag vessels and on third-flag vessels according to the determinations and certifications of vessel non-availability that have been granted. The compilation of the statistics from the shipping reports forms the basis for determining compliance with PR 17 for each loan participant. This information is also provided to the Export-Import Bank, and is the nucleus for conducting annual reviews of the shipping activities of the Export-Import Bank programs.

MARAD uses the information collected as part of the Transparency Initiative to share with the Export-Import Bank. MARAD also intends to use the information to assist Ex-Im Bank shippers with finding suitable U.S.-flag vessels and in support of the determinations MARAD makes with respect to requests from Export-Import Bank shippers for certifications of non-availability.

Respondents: All Export-Import Bank loan and certain loan guarantee recipients and designated representatives charged with the responsibility of monthly and annual reporting. These can be a contractor, ocean transportation intermediary, supplier, etc.

Number of Respondents: 28.

Frequency: Monthly.

Number of Responses: One per month.

Total Annual Burden: 196.

Public Comments Invited: You are asked to comment on any aspect of this information collection, including (a) whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995; 44 U.S.C. Chapter 35, as amended; and 49 CFR 1:93.

Dated: August 20, 2015.
T. Mitchell Hudson, Jr.,
Secretary, Maritime Administration.

[FR Doc. 2015-22726 Filed 9-8-15; 8:45 am]

BILLING CODE 4910-81-P